INTERNATIONAL TRADE COMMISSION

[Investigation Nos. 731-TA-540 and 541 (Third Review)]

Certain Welded Stainless Steel Pipe From Korea and Taiwan

Determination

On the basis of the record ¹ developed in the subject five-year reviews, the United States International Trade Commission (Commission) determines, pursuant to section 751(c) of the Tariff Act of 1930 (19 U.S.C. 1675(c)), that revocation of the antidumping duty orders on certain welded stainless steel pipe from Korea and Taiwan would be likely to lead to continuation or recurrence of material injury to an industry in the United States within a reasonably foreseeable time.

¹ The record is defined in sec. 207.2(f) of the Commission(s Rules of Practice and Procedure (19 CFR 207.2(f)).

Background

The Commission instituted these reviews on July 1, 2011 (76 FR 38688) and determined on October 4, 2011, that it would conduct expedited reviews (76 FR 64106, October 17, 2011).

The Commission transmitted its determination in these reviews to the Secretary of Commerce on December 1, 2011. The views of the Commission are contained in USITC Publication 4280 (December 2011), entitled Certain Welded Stainless Steel Pipe from Korea and Taiwan, Investigation Nos. 731-TA-540 and 541 (Third Review).

By order of the Commission.
Issued: December 1, 2011.
James R. Holbein,
Secretary to the Commission.

[FR Doc. 2011-31345 Filed 12-6-11; 8:45 am]

BILLING CODE 7020-02-P